DEPARTMENT OF HEALTH AND HUMAN SERVICES

Administration on Aging

Agency Information Collection Activities; Submission for OMB Review; Comment Request; National Family Caregiver Support Program Survey: Grandparents and Other Relative Caregivers Raising Children

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by June 14, 2002.

ADDRESSES: Submit written comments on the collection of information to the Office of Information and Regulatory Affairs, OMB, New Executive Office Bldg., 725 17th St. NW., rm. 10235, Washington, DC 20503, Attn: Allison Herron Eydt, Desk Officer for AoA.

FOR FURTHER INFORMATION CONTACT: Rick Greene, (202) 205-2814, rick.greene@aoa.gov.

SUPPLEMENTARY INFORMATION: In compliance with 44 U.S.C. 3507, AoA has submitted the following proposed collection of information to OMB for review and clearance.

A one-time survey will collect information on organizations providing services to grandparents and other relatives caring for children, the nature of the services provided, the number of grandparents and other relatives served annually, the number of children assisted annually, and the training needs of these organizations. AoA estimates the burden of this collection of information as follows: 267 hours will be required to collect this information at an estimated cost of $5,340.

In the Federal Register of December 21, 2001 (Vol 66, Pages 65972-3), the agency requested comments on the proposed collection of information. No comments were received.

Dated: May 3, 2002.
Josefina G. Carbonell,
Assistant Secretary for Aging.

[FR Doc. 02-12132 Filed 5-14-02; 8:45 am]

BILLING CODE 4154-01-P